DEPARTMENT OF THE INTERIOR

Fish and Wildlife Service

[FWS-R6-R-2008-N0186; FF06R06000 134 FXRS1265066CCP0]

Huron Wetland Management District, Madison Wetland Management District, and Sand Lake Wetland Management District, SD; Final Comprehensive Conservation Plan and Finding of No Significant Impact for Environmental Assessment

AGENCY: Fish and Wildlife Service, Interior.

ACTION: Notice of Availability.

SUMMARY: We, the U.S. Fish and Wildlife Service (Service), announce the availability of our final comprehensive conservation plan (CCP) and finding of no significant impact (FONSI) for the environmental assessment (EA) involving Huron, Madison, and Sand Lake Wetland Management Districts (Districts). In this final CCP, we describe how we will manage these three Districts for the next 15 years.

ADDRESSES: You may view or obtain copies of the final CCP and FONSI/EA by any of the following methods. You may request a hard copy or CD-ROM.

Agency Web Site: Download a copy of the document at http://mountain-prairie.fws.gov/planning.

Email: bernardo_garza@fws.gov. Include “Huron Wetland Management District, Madison Wetland Management District, Sand Lake Wetland Management District final CCP” in the subject line of the message.

Mail: U.S. Fish and Wildlife Service, Division of Refuge Planning, P.O. Box 25486, Denver Federal Center, Denver, Colorado 80225.

In person Viewing or Pickup: call 303-236-4377 to make an appointment during regular business hours at 134 Union Boulevard, Suite 300, Lakewood, Colorado 80228.

FOR FURTHER INFORMATION CONTACT: Bernardo Garza, 303-236-4377, (phone); bernardo_garza@fws.gov (email).

SUPPLEMENTARY INFORMATION:

Introduction

With this notice, we finalize the CCP process for Huron Wetland Management District, Madison Wetland Management District, Sand Lake Wetland Management District. We started this process through a notice in the Federal Register (73 FR 53439, September 16, 2008). We released the draft CCP and the EA to the public, announcing and requesting comments in a notice of availability in the Federal Register (76 FR 65525, October 21, 2011).

Huron Wetland Management District was established in 1992 encompassing lands that were previously under the management of both the Lake Andes and Sand Lake Wetland Management Districts. Madison Wetland Management District was established in 1969. Sand Lake Wetland Management District was established in 1961. These Districts lie in eastern South Dakota, within the highly productive Prairie Pothole region. These Districts are three of six existing Districts in South Dakota, and together manage more than 1.5 million acres of land within the 27-county planning area. A mosaic of primarily tallgrass and mixed-grass prairies dotted with many small lakes and semipermanent or permanent wetlands, interspersed among agricultural lands, comprise most of the Districts.

These diverse prairie habitats provide for a myriad of waterfowl, waterbird, and neotropical migratory bird species, resident white-tailed deer, as well as federally listed species such as whooping and sandhill cranes, least terns, and piping plovers in the eastern portion of the districts to pronghorn, mule deer, and prairie chicken, among others, in the westernmost portion of the planning area. Native fish such as walleye and lake trout, as well as a large variety of other smaller native fish species, share this environment with sport fishes such as smallmouth and largemouth bass, bluegill and northern pike.

Wetland drainage and tiling, as well as prairie conversion to crop production, pose some of the greatest challenges to the wildlife and native plant species of this region of the Central Flyway.

The Districts were created to administer the Small Wetlands Acquisition Program to protect wetlands from various threats—particularly drainage. Grassland easements were included in this program in 1991. The purpose of the Districts is “to assure the long-term viability of the breeding waterfowl population and production through the acquisition and management of waterfowl production areas, while considering the needs of other migratory birds, threatened and endangered species, and other wildlife.” This purpose statement was developed for all Region 6 wetland management districts.

Despite the decentralized nature of the lands managed by the three districts, it is estimated that annual visitation to all three districts' lands totaled more than 240,000 visitor-days, with nearly 75 percent of this visitation involving local residents and the remaining 25 percent from visitors from outside of the planning area. Hunting accounted for nearly 80 percent of the total visitation, followed by fishing with nearly 12 percent, and non-consumptive uses, such as bird watching and wildlife photography, accounting for less than eight percent. Trapping is also a popular activity among visitors to the Districts.

The Districts have been historically managed for migratory birds, with an emphasis on waterfowl species. Management techniques include prescribed burning, cattle grazing, invasive species control, and water level management in wetlands with water control structures. Past management has included installing some water control structures and constructing channels used to divert water. The planning area is a popular area for research by the Service and local universities, as well as state and other partners, given its diversity of wildlife and plants.

We announce our decision and the availability of the FONSI for the final CCP for the Huron Wetland Management District, Madison Wetland Management District, and Sand Lake Wetland Management District in accordance with National Environmental Policy Act (NEPA) (40 CFR 1506.6(b)) requirements. We completed a thorough analysis of impacts on the human environment, which we included in the EA that accompanied the draft CCP.

The CCP will guide us in managing and administering Huron Wetland Management District, Madison Wetland Management District, and Sand Lake Wetland Management District for the next 15 years. Alternative B, as we described in the final CCP, is the foundation for the CCP.

Background

The National Wildlife Refuge System Administration Act of 1966 (16 U.S.C. 668dd-668ee) (Refuge Administration Act), as amended by the National Wildlife Refuge System Improvement Act of 1997, requires us to develop a CCP for each unit of the National Wildlife Refuge System (System). The purpose for developing a CCP is to provide refuge managers with a 15-year plan for achieving their unit's purposes and contributing toward the mission of the System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including Selected Alternative

Our draft CCP and our EA addressed and evaluated three management alternatives. Alternative A, Current Management, would have maintained the current management activities of each of the three Districts. Alternative B, Increased Efficiency, would seek the development and implementation of an improved, science-based priority system to restore native prairie habitats. Alternative C, Increased Efficiency with Expanded Resources, would follow the same prioritization system for restoration and management as under Alternative B, but it would be based on projected staffing and funding increases.

Comments

We solicited comments on the draft CCP and the EA for Huron, Madison, and Sand Lake Wetland Management Districts from October 21, 2011 to November 21, 2011 (76 FR 65525, October 21, 2011). The Service received 9 comments during the public review period. All of those comments were thoroughly evaluated by the planning team. However none of the comments caused substantial changes to the CCP.

Selected Alternative

After considering the comments we received, we have selected Alternative B for implementation. This alternative, also known as Increased Efficiency, would emphasize developing and implementing an improved, science-based priority system to restore native prairie habitats for the benefit of waterfowl and other migratory birds. Districts staffs will focus on high priority tracts and, when possible, on medium-priority tracts. The focus of this will be to restore ecological processes and native grassland species to the greatest extent possible within the parameters of available resources and existing budgetary and staffing constraints. The Districts' staffs will seek to maintain the existing levels and types of public use programs, ensuring that programs offered to the public are of consistently high quality.

Dated: September 12, 2012.
Steve Guertin,
Regional Director, Mountain-Prairie Region, U. S. Fish and Wildlife Service.

[FR Doc. 2012-25337 Filed 10-15-12; 8:45 am]

BILLING CODE 4310-55-P